DEPARTMENT OF TRANSPORTATION

Federal Aviation Administration

14 CFR Part 39

[Docket No. 2003-NM-134-AD; Amendment 39-13202; AD 2003-13-02]

RIN 2120-AA64

Airworthiness Directives; Airbus Model A321-131 Series Airplanes; Equipped with International Aero Engines (IAE) V25()()-A5 Series Engines

AGENCY: Federal Aviation Administration, DOT.

ACTION: Final rule; request for comments.

SUMMARY: This amendment adopts a new airworthiness directive (AD), applicable to all Model A321-131 series airplanes, equipped with International Aero Engines (IAE) V25()()-A5 series engines. This action requires revising the Limitations section of the airplane flight manual to incorporate new procedures to follow in the event of an oil filter clog message. This action is necessary to require the flightcrew to follow the procedures necessary to prevent smoke caused by an oil filter clog from entering the cabin during flight. This action is intended to address the identified unsafe condition.

DATES: Effective July 8, 2003.

Comments for inclusion in the Rules Docket must be received on or before July 23, 2003.

ADDRESSES: Submit comments in triplicate to the Federal Aviation Administration (FAA), Transport Airplane Directorate, ANM-114, Attention: Rules Docket No. 2003-NM-134-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2003-NM-134-AD” in the subject line and need not be submitted in triplicate. Comments sent via the Internet as attached electronic files must be formatted in Microsoft Word 97 for Windows or ASCII text.

Information pertaining to this amendment may be examined at the FAA, Transport Airplane Directorate, Rules Docket, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The FAA has previously received a report of a recent incident of dense smoke in the cabin on an Airbus Model A319 series airplane that resulted in an emergency landing. The smoke rapidly filled the cabin and cockpit, reducing the visibility to the point that the flightcrew had difficulty seeing the instruments. Investigation revealed that the smoke was caused by the failure of the number 3 bearing on an International Aero Engines (IAE) V25()()-A5 series engine, resulting in oil being ingested into the cabin air conditioning system through the engine high pressure compressor. The “ENG 1 Oil Filter Clog” message appeared on the electronic centralized aircraft monitoring (ECAM) display about 10-15 minutes prior to the smoke filling the cabin; however, there is currently no pilot action associated with this message. In-service reports have shown that the “oil filter clog” message is frequently a symptom of engine bearing damage that could potentially lead to smoke entering the cabin through the air conditioning pack on the affected side. This condition, if not corrected, could reduce the flightcrew's ability to see and result in the flightcrew having difficulty in controlling the airplane while applying smoke removal procedures.

Model A321-131 series airplanes are equipped with the same IAE V2500-A5 series engines as those on the affected Model A319 series airplanes. Therefore, those Model A321-131 series airplanes may be subject to the unsafe condition identified on the affected Model A319 series airplanes.

Other Relevant Rulemaking

We have previously issued AD 2003-10-14, amendment 39-13159 (68 FR 28119, May 23, 2003), applicable to all Airbus Model A319-131, -132, and -133; A320-232 and -233; and A321-231 series airplanes; equipped with IAE V25()()-A5 series engines. That AD currently requires revising the Limitations section of the airplane flight manual (AFM) to incorporate new procedures to follow in the event of an oil filter clog message. The actions required by that AD are intended to require the flightcrew to follow the procedures necessary to prevent smoke caused by an oil filter clog from entering the cabin during flight.

Actions Since Issuance of Previous Rule

Since issuance of that AD, we have determined that Model A321-131 series airplanes equipped with IAE V25()()-A5 series were inadvertently omitted from the applicability of AD 2003-10-14. Therefore, this AD is being issued to address the identified unsafe condition on those airplanes.

U.S. Type Certification of the Airplane

This airplane model is manufactured in France and is type certificated for operation in the United States under the provisions of section 21.29 of the Federal Aviation Regulations (14 CFR 21.29) and the applicable bilateral airworthiness agreement.

Explanation of Requirements of the Rule

Since an unsafe condition has been identified that is likely to exist or develop on other airplanes of the same type design that may be registered in the United States at some time in the future, this AD is being issued to require the flightcrew to follow the procedures necessary to prevent smoke caused by an oil filter clog from entering the cabin during flight. This AD requires revising the Limitations section of the AFM to incorporate new procedures to follow in the event of an oil filter clog message.

Interim Action

We consider this AD interim action. If final action is later identified, we may consider further rulemaking then.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. Because we have now included this material in part 39, only the office authorized to approve AMOCs is identified in each individual AD.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required AFM revision, at an average labor rate of $60 per work hour. Based on these figures, the cost impact of this AD would be $60 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-134-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-13-02 Airbus: Amendment 39-13202. Docket 2003-NM-134-AD.

Applicability: All Model A321-131 series airplanes; certificated in any category; equipped with International Aero Engines (IAE) V25()()-A5 series engines.

Compliance: Required as indicated, unless accomplished previously.

To require the flightcrew to follow the procedures necessary to prevent smoke caused by an oil filter clog from entering the cabin during flight, accomplish the following:

Airplane Flight Manual (AFM) Revision

(a) Within 7 days after the effective date of this AD, revise the Limitations section of the Airbus A321 AFM to include the following statements (this may be accomplished by inserting a copy of this AD into the AFM):

“Procedure for Oil Filter Clog ECAM Caution

The ECAM does not require any pilot action in case of ENG 1(2) OIL FILTER CLOG ECAM warning. However, to minimize the risk of air conditioning system contamination by oil fumes, systematically apply the following procedure in any event of oil filter clog:

ENG 1(2) OIL FILTER CLOG

In-service reports have shown that this ECAM warning is frequently a symptom of engine bearing damage that could potentially lead to smoke entering the cabin via the pack of the affected side. This procedure aims to avoid air conditioning smoke, while continuing normal engine operation.

ENG BLEED (affected side)—OFF

(Prevents possible bleed contamination by engine oil.)

PACK (affected side)—OFF

(Switching off one pack enables the remaining pack to operate at 120 percent without any risk of remaining bleed misbehavior. Keep the pack on in case of an MEL dispatch with one pack inoperative.

The pack that has been switched off remains available with the crossbleed valve open. Therefore, switch it on in case of a subsequent independent malfunction affecting the operating pack.)

CROSSBLEED—OPEN

(Opening the crossbleed valve enables the wing anti-ice to be used when needed.)

CLOSELY MONITOR ENGINE PARAMETERS FOR SURGE/STALL, OIL PRESSURE FLUCTUATIONS, OR ABNORMAL ENGINE VIBRATIONS; AND, WHEN NECESSARY, APPLY THE ASSOCIATED PROCEDURE.

If, after the oil filter clog, the engine experiences or has already experienced a surge/stall possibly accompanied by a yaw-effect on the aircraft:

ENG (AFFECTED) THRUST LEVER—IDLE—

(Reducing the thrust of the affected engine minimizes further damage to the engine rotary machinery, but will not necessarily prevent more oil from entering the gas path. Maintain engine at idle, and consider engine shutdown if high vibration occurs or oil quantity/oil pressure drops low.)

“Oil Filter Clog” ECAM warnings occurring on the ground during engine start are frequently due to low oil viscosity and may be self-recoverable. In the event of an “Oil Filter Clog” warning during engine start, please refer to FCOM 3.02.70 page 2.”

Alternative Methods of Compliance

(b) In accordance with 14 CFR 39.19, the Manager, International Branch, ANM-116, FAA, is authorized to approve alternative methods of compliance for this AD.

Effective Date.

(c) This amendment becomes effective on July 8, 2003.

Issued in Renton, Washington, on June 16, 2003.
Kalene C. Yanamura,
Acting Manager, Transport Airplane Directorate, Aircraft Certification Service.

[FR Doc. 03-15595 Filed 6-20-03; 8:45 am]

BILLING CODE 4910-13-P